SECURITIES AND EXCHANGE COMMISSION

17 Part 240

[Release No. 34-76624A; File No. S7-26-15]

RIN 3235-AL72

Establishing the Form and Manner With Which Security-Based Swap Data Repositories Must Make Security-Based Swap Data Available to the Commission; Correction

AGENCY: Securities and Exchange Commission.

ACTION: Proposed rule; Correction.

SUMMARY: The Securities and Exchange Commission published a Proposed Rule in the Federal Register on Wednesday, December 23, 2015 (FR Doc 2015-31703; 80 FR 79757) concerning, Establishing the Form and Manner with which Security-Based Swap Data Repositories Must Make Security-Based Swap Data Available to the Commission. The printed document contained omitted information in the signatory block.

FOR FURTHER INFORMATION CONTACT: Crystal Pemberton, Office of the Secretary, Securities and Exchange Commission, 100 F Street NE., Washington, DC 20549, (202) 551-5423.

SUPPLEMENTARY INFORMATION: On page 79773, in the third column add the date of “December 11, 2015” to the signatory block.

Correction

In the Federal Register of Wednesday, December 23, 2015, FR Doc 2015-31703, on page 79773, under PART 240—GENERAL RULES AND REGULATIONS, SECURITIES EXCHANGE ACT OF 1934, in the third column, after § 240.13n-4 Duties and core principles of security-based swap data repository, the following signature date of “December 11, 2015” is corrected to read before the signatory block.

Brent J. Fields,
Secretary.

[FR Doc. 2016-00044 Filed 1-6-16; 8:45 am]

BILLING CODE 8011-01-P